DEPARTMENT OF TRANSPORTATION

Federal Aviation Administration

14 CFR Part 400

[Docket No. FAA-2012-0318; Notice No. 400-4]

RIN 2120-AK16

Voluntary Licensing of Amateur Rocket Operations; Correction; Delay of Effective Date

AGENCY: Federal Aviation Administration (FAA), DOT.

ACTION: Direct final rule; correction; delay of effective date.

SUMMARY: This action delays the effective date for a direct final rule that was published on August 22, 2012. In that rule, the FAA amends the scope of its regulations to allow launch operators that conduct certain amateur rocket launches an opportunity to voluntarily apply for a commercial space transportation license or experimental permit. The FAA has received several adverse comments to this rule, and delays the effective date to allow time for adequate analysis and a final determination. This document also corrects the regulatory identification number on the original publication.

DATES: The effective date for the direct final rule published on August 22, 2012, was scheduled to be October 9, 2012, and is delayed until November 8, 2012.

FOR FURTHER INFORMATION CONTACT: For technical questions, contact Shirley McBride, Senior Transportation Industry Analyst, Regulations and Analysis Division, AST-300, Federal Aviation Administration, 800 Independence Avenue SW., Washington, DC 20591; telephone (202) 267-7470; facsimile (202) 267-5463; email Shirley.McBride@faa.gov. For legal questions, contact Laura Montgomery, Senior Attorney for Commercial Space Transportation, Office of the Chief Counsel, Regulations Division, AGC-200, Federal Aviation Administration, 800 Independence Avenue SW., Washington, DC 20591; telephone (202) 267-3150; facsimile (202) 267-7971, email laura.montgomery@faa.gov.

SUPPLEMENTARY INFORMATION:

Background

On August 22, 2012, the FAA published the direct final rule entitled, “Voluntary Licensing of Amateur Rocket Operations” (77 FR 50584). In this rule, the FAA is amending the scope of its regulations to allow launch operators that conduct certain amateur rocket launches an opportunity to voluntarily apply for a commercial space transportation license or experimental permit. This rule received 4 adverse comments prior to comment period closing on September 21, 2012. The rule contained the effective date of October 9, 2012.

Correction

The original publication contained an incorrect regulatory identification number (RIN). This document contains the correct RIN 2120-AK16.

Reason for Delay of Effective Date

A direct final rule is based on the Administrative Procedure Act's good cause exception to prior notice and comment procedures, 5 U.S.C. 553. This exception is used where we have found that prior public comment procedure may be unnecessary because adverse comments are not expected. In determining whether an adverse comment is significant enough to end a rulemaking, we consider whether the comment would warrant a substantive response in a notice of proposed rulemaking (NPRM).

The effective date of a direct final rule is normally a minimum of 30 calendar days after the end of the comment period. This rule published with an effective date of 15 calendar days after the end of the comment period to accommodate NASA's deadline in funding licensed launches. However, we received 4 substantive comments that require further analysis and determination. The FAA needs additional time to address the comments received and decide on the appropriate action.

Conclusion

Accordingly, the effective date for Notice No. 400-4 is delayed until November 8, 2012.

Issued in Washington, DC, October 4, 2012.
Lirio Liu,
Director, Office of Rulemaking.

[FR Doc. 2012-25021 Filed 10-9-12; 8:45 am]

BILLING CODE 4910-13-P